DEPARTMENT OF DEFENSE

Defense Finance and Accounting Service; Privacy Act of 1974; Systems of Records

AGENCY: Defense Finance and Accounting Service; DoD.

ACTION: Notice to Amend a System of Records.

SUMMARY: The Defense Finance and Accounting Service is amending a system of records notice to its existing inventory of records systems subject to the Privacy Act of 1974 (5 U.S.C. 552a), as amended.

DATES: This action will be effective without further notice on October 19, 2005 unless comments are received that would result in a contrary determination.

ADDRESSES: Send comments to Ms. Linda Krabbenhoft, Freedom of Information Act/Privacy Act Program Manager, Defense Finance and Accounting Service, Denver, 6760 E. Irvington Place, Denver, CO 80279-8000, telephone (303) 676-6045.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The specific changes to the records system being amended are set forth below followed by the notice, as amended, published in its entirety. The proposed amendment is not within the purview of subsection (r) of the Privacy Act of 1974, (5 U.S.C. 552a), as amended, which requires the submission of a new or altered system report.

Dated: September 12, 2005.
L.M. Bynum,
Alternate OSD Federal Register Liaison Officer, Department of Defense.

T7280

System name:

Uniformed Services Savings Deposit Program (USSDP) (August 30, 2000, 65 FR 52715).

Changes:

* * * * *

Retention and disposal:

Delete entry and replace with “Destroy 6 years and 3 months after cutoff.”

* * * * *

T7280

System name:

Uniformed Services Savings Deposit Program (USSDP).

System location:

Defense Finance and Accounting Service—Cleveland Center, 1240 East 9th Street, Cleveland, OH 44199-2055.

Categories of individuals covered by the system:

Military members on a permanent duty assignment outside the United States or its possessions, or members on a temporary duty assignment in support of a contingency operation outside the United States or its possessions, who choose to deposit their current pay and allowances, or a portion thereof, into an account administered by the Defense Finance and Accounting Service (DFAS).

Members who are in a missing status and whose pay and allowances, or a portion thereof, are deposited into an account administered by DFAS are also included.

Dependents, next-of-kin, survivors and former spouses of Uniformed Services Savings Deposit Program (USSDP) participants may be included.

Categories of records in the system:

Records required to administer the account, and account for accrued interest which includes, but is not limited to, the master account records for each depositor, transaction records of monetary data (deposits, withdrawals and adjustments), allotment records, name and Social Security Number change record, settled records, check writing and voucher register data record, interest paid records, quarterly statements records, supplemental address for interest refund records. File also contains correspondence files covering requests for information from embers, Federal agencies, spouses, former spouses, dependents, survivors, widows or widowers, next of kin, the American Red Cross, Congress, and other DoD components.

Authority for maintenance of the system:

Pub. L. 89-538, Armed Forces Savings Deposits, 5 U.S.C. 301, Departmental Regulations; 10 U.S.C. 1035, Deposits of Savings; and E.O. 9397 (SSN).

Purpose(s)

Information is collected to facilitate account maintenance, including updating for deposits, withdrawals, interest accruals, adjustments and summary data, prior to clearing account when the account is terminated.

All records in this system of records are subject to use in authorized computer matching programs with the Department of Defense and with other Federal agencies or non-Federal agencies as regulated by the Privacy Act of 1974 (5 U.S.C. 552a), as amended.

Routine uses of records maintained in the system, including categories of users and the purposes of such uses:

In addition to those disclosures generally permitted under 5 U.S.C. 552a(b) of the Privacy Act, these records of information contained therein may specifically be disclosed outside the DoD as a routine use pursuant to 5 U.S.C. 552a(b)(3) as follows:

To the Department of Veterans Affairs and the Social Security Administration to determine eligibility, entitlements, and addresses of Uniformed Services Deposit Program members.

To the Federal Housing Agency (FHA) to verify eligibility for loans.

To the American Red Cross to use in assisting the member or dependents in emergency situations.

To the widow or widower, dependent, or next-of-kin of deceased members to settle the affairs of the former member.

The DoD ‘Blanket Routine Uses’ published at the beginning of the DFAS compilation of record system notices also apply to this system.

Disclosure of consumer reporting agencies:

Disclosures pursuant to 5 U.S.C. 552a(b)(12) may be made from this system to ‘consumer reporting agencies’ as defined in the Fair Credit Reporting Act, 14 U.S.C. 1681a(f) or the Federal Claims Collection Act of 1966, 31 U.S.C. 3701(a)(3). The purpose of this disclosure is to aid in the collection of outstanding debts owed to the Federal government; typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Maintained in paper files, on computer magnetic tapes and computer paper printouts, and on microfiche.

Retrievability:

By name and Social Security Number.

Safeguards:

As a minimum, records are accessed by person(s) responsible for servicing, and authorized to use, the record system in performance of their official duties who are properly screened and cleared for need to know.

Retention and disposal:

Destroy 6 years and 3 months after cutoff.

System manager(s) and address:

Deputy Director for Finance Operations, Code F, Defense Finance and Accounting Service-Cleveland Center, 1240 East Ninth Street, Cleveland, OH 44199-2055.

Notification procedure:

Individuals seeking to determine whether information about themselves is contained in this system of records should address written inquiries to the Privacy Act Officer, Defense Finance and Accounting Service-Cleveland Center, 1240 Ninth Street, Cleveland, OH 44199-2055.

Individuals should provide sufficient proof of identity, such as name, Social Security Number, or other information verifiable from the record itself.

Record access procedures:

Individuals seeking access to information about themselves contained in this system of records should address written inquiries to the Privacy Act Officer, Defense Finance and Accounting Service-Cleveland Center, 1240 East Ninth Street, Cleveland, OH 44199-2055.

Individuals should provide sufficient proof of identity, such as name, Social Security Number, or other information verifiable from the record itself.

Contesting record procedures:

The DFAS rules for accessing records, for contesting contents and appealing initial agency determination are published in DFAS Regulation 5400.11-R; 32 CFR part 324; or may be obtained from the Freedom of Information/Privacy Act Program Manager, Office of Corporate Communications, 6760 E. Irvington Place, Denver, CO 80279-8000.

Record source categories:

Information is obtained from the member, spouse, next-of-kin, survivors, and automated system interfaces with our pay systems.

Exemptions claimed for the system:

None.

[FR Doc. 05-18567 Filed 9-16-05; 8:45 am]

BILLING CODE 5001-06-M